DEPARTMENT OF LABOR

Employment and Training Administration

TA-W-64,643, Chrysler LLC, Headquarters, Including On-Site Leased Workers From Aerotek, Ajilon, et al., Auburn Hills, MI; TA-W-64,643A, Chrysler LLC, Technology Center, Including On-Site Leased Workers From Aerotek, Ajilon, et al., Auburn Hills, MI; TA-W-64,643B, Chrysler LLC, Featherstone, Including On-Site Leased Workers From Aerotek, Bartech Group, et al., Auburn Hills, MI; TA-W-64,643C, Chrysler LLC, Chrysler Office Building, Including On-Site Leased Workers From Aerotek, Ajilon, et al., Auburn Hills, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2008, applicable to workers of Chrysler LLC, Headquarters, Auburn Hills, Michigan, Chrysler LLC, Technology Center, Auburn Hills, Michigan and Chrysler LLC, Featherstone, Auburn Hills, Michigan. The notice was published in the Federal Register on January 14, 2009 (74 FR 2136). The notice was amended on April 24, 2009 to include on-site leased workers. The Notice was published in the Federal Register on May 18, 2009 (74 FR 23216). The notice was amended again on August 27, 2009 to include workers at the Chrysler Office Building, an annex of the Headquarters at the Auburn Hills Complex. The notice was published in the Federal Register on September 22, 2009 (74 FR 48297)

At the request of the State agency, the Department reviewed the certification for workers of the subject firm. The workers are engaged in activities related to the production automotive vehicles and automotive vehicle parts.

New information shows that workers leased from the INCAT, Ta Ta Technologies, TechOps and Tech Team Global were employed on-site at the Auburn Hills, Michigan locations of the above mentioned plants of Chrysler LLC.

The Department has determined that these workers were sufficiently under the control of Chrysler LLC, Headquarters, Technology Center, Featherstone and Chrysler Office Building to be considered leased workers.

Based on these findings, the Department is amending this certification to include workers leased from INCAT, Ta Ta Technologies, TechOps and Tech Team Global working on-site at the Auburn Hills, Michigan locations of the subject firm.

The amended notice applicable to TA-W-64,494 is hereby issued as follows:

All workers of Chrysler LLC, Headquarters, including on-site leased workers from Aerotek, Ajilon, Argos, ASG Renaissance, Bartech, Group, CDI Information Services, Computer Consultants of America, Computer Engrg Services, Epitec Group, Gtech Professional Staffing, JDM Systems Consultants, Kelly Services, Preferred Solutions, Resource Technologies, Spherion, Synova, and TAC Transportation, INCAT, Ta Ta Technologies, TechOps and Tech Team Global, Auburn Hills, Michigan (TA-W-64,643), Chrysler LLC, Technology Center, including on-site leased workers from Aerotek, Ajilon, Altair Engineering, Applied Technologies, Argos, ASG Renaissance, Automated Analysis Corp/Belcan, Bartech Group, CAE Tech, CDI Information Services, CER-CAD Engineering Resources, Computer Consultants of America, Computer Engrg Services, Compuware, Controller Technologies, Data Communications Corp., Emerging Technologies Corp., Engineering Technology Assoc., Gonzalez Design Engineering, Gtech Professional Staffing, Incat, Jefferson Wells International, Kelly Services, Magnasteyr, Meda Technical Services, Modern Professional Services, MSX International, Optical Q Quest Corp., Quantum Consultants, Rapid Global Business, Resource Technologies, Ricardo, RSB Systems, Spherion, Synova, Syntel Int'l, Systems Technology, TAC Transportation, TEC, Technical Training, UGS PLM Solutions, Unique Systems Design, Valley Forge, Wel-Tek International, INCAT, Ta Ta Technologies TechOps and Tech Team Global, Auburn Hills, Michigan (TA-W-64,643A), Chrysler LLC, Featherstone, including on-site leased workers from Aerotek, Bartech Group, CDE Information Services, Computer Consultants of America, Computer Engreg Services, Crassociates, Gtech Professional Staffing, Incat, JDM Systems Consultants, Kelly Services, Meda Technical Services, Modern Professional Services, MSX International, O/E Learning, Resource Technologies, Ricardo, Spherion, Synova, Systems Technology, TAC, Technical Training, INCAT, Ta Ta Technologies and Tech Team Global, Auburn Hills, Michigan (TA-W-64,643B), and all workers of Chrysler LLC, Chrysler Office Building, including on-site leased workers from Aerotek, Ajilon, Argos, Bartech Group, CDI Information Services, Computer Consultants of America, Inc., Computer Engrg Services, Epitec Group, Inc., Gtech Professional Staffing, Inc., JDM Systems Consultants, Inc., Kelly Services, Inc., Preferred Solutions, Resource Technologies Corp., Spherion, Synova, TA Transportation, INCAT, Ta Ta Technologies, TechOps and Tech Team Global, Auburn Hills, Michigan, who became totally or partially separated from employment on or after December 2, 2007 through December 19, 2010, are eligible to apply for adjustment assistance under Section 223 of the Trade Act of 1974, and are also eligible to apply for alternative trade adjustment assistance under Section 246 of the Trade Act of 1974.

Signed at Washington, DC, this 29th day of September 2009.
Elliott S. Kushner,
Certifying Officer, Division of Trade Adjustment Assistance.

[FR Doc. E9-25156 Filed 10-19-09; 8:45 am]

BILLING CODE 4510-FN-P